FEDERAL ELECTION COMMISSION

Sunshine Act Meeting

AGENCY: Federal Election Commission

DATE AND TIME: Thursday July 10, 2014, 15 minutes after the conclusion of the open meeting.

PLACE: 999 E Street NW., Washington, DC.

STATUS: This meeting will be closed to the public.

Federal Register Notice of Previous Announcement—79 FR 38537

CHANGE IN THE MEETING: This meeting will begin at 10:00 a.m. rather than 15 minutes after the conclusion of the open meeting.

* * * * *

PERSON TO CONTACT FOR INFORMATION: Judith Ingram, Press Officer, Telephone: (202) 694-1220.

Shelley E. Garr,
Deputy Secretary of the Commission.

[FR Doc. 2014-16514 Filed 7-10-14; 11:15 am]

BILLING CODE 6715-01-P